INTERNATIONAL TRADE COMMISSION

[USITC SE-00-054]

Sunshine Act Meeting

AGENCY HOLDING THE MEETING: International Trade Commission.

TIME AND DATE: December 28, 2000 at 11 a.m.

PLACE: Room 101, 500 E Street SW., Washington, DC 20436, Telephone: (202) 205-2000.

STATUS: Open to the public.

MATTERS TO BE CONSIDERED:

1. Agenda for future meeting: none

2. Minutes

3. Ratification List

4. Inv. Nos. 701-TA-404-408 and 731-TA-898-908 (Preliminary)(Certain Hot-Rolled Steel Products from Argentina, China, India, Indonesia, Kazakhstan, the Netherlands, Romania, South Africa, Taiwan, Thailand, and Ukraine)—briefing and vote. (The Commission is currently scheduled to transmit its determination to the Secretary of Commerce on December 28, 2000; Commissioners' opinions are currently scheduled to be transmitted to the Secretary of Commerce on January 5, 2001.)

5. Outstanding action jackets: none.

In accordance with Commission policy, subject matter listed above, not disposed of at the scheduled meeting, may be carried over to the agenda of the following meeting.

By order of the Commission.
Issued: December 18, 2000.
Donna R. Koehnke,
Secretary.

[FR Doc. 00-32658 Filed 12-19-00; 10:55 am]

BILLING CODE 7020-02-U